FEDERAL COMMUNICATIONS COMMISSION

Public Information Collection Approved by Office of Management and Budget

January 27, 2003.

The Federal Communications Commission (FCC) has received Office of Management and Budget (OMB) approval for the following public information collections pursuant to the Paperwork Reduction Act of 1995, Public Law 104-13. An agency may not conduct or sponsor a collection of information unless it displays a currently valid control number. For further information contact Judith Boley Herman, Federal Communications Commission, (202) 418-0214.

Federal Communications Commission

OMB Control No.: 3060-0954.

Expiration Date: 07/31/05.

Title: Implementation of the 911 Act.

Form No.: N/A.

Respondents: Business or other for-profit, not for profit institutions, state, local, or tribal governments.

Responses: 800.

Estimated Time Per Response: 4.5 hours.

Estimated Total Annual Burden: 3,100 hours.

Total Annual Cost: 0.

Description: The reporting requirement is a two time burden. All of the burdens contained in the submission are needed to ensure prompt and smooth transition to universal 911 emergency calling services.

OMB Control No.: 3060-0900.

Expiration Date: 12/31/05.

Title: Compatibility of Wireless Services with Enhanced 911; Second Report and Order in CC Docket No. 94-102.

Form No.: N/A.

Respondents: Individuals or households, business or other for-profit, state, local, or tribal governments, not for profit institutions.

Responses: 140.

Estimated Time Per Response: 20 hours.

Estimated Total Annual Burden: 2,190 hours.

Total Annual Cost: 0.

Description: The information submitted by manufacturers or carriers wishing to incorporate new or modified E911 call processing modes will be used to keep the Commission informed of technological developments and thus to ensure that the Commission's regulations are kept current and reflect the preferences of the industry in complying with E911 call completion regulations. The voluntary education program will enable consumers to use wireless analog sets to make E911 calls in an informative manner, ensuring a fast, reliable response.

OMB Control No.: 3060-0813.

Expiration Date: 6/30//05.

Title: Revision of the Commission's Rules to Ensure Compatibility with Enhanced 911 Emergency Calling Services.

Form No.: N/A.

Respondents: Business or other for-profit, state, local, or tribal governments.

Responses: 47,031.

Estimated Time Per Response: 1 to 5 hours.

Estimated Total Annual Burden: .198,200 hours.

Total Annual Cost: 0.

Description: The notification burden on Public Safety Answering Points (PSAPs) will be used by the carriers to verify that wireless E911 calls are referred to PSAPs who have the technical capability to use the data to the caller's benefit. TTU and dispatch notification requirements will be used to avoid consumer confusion as to the capabilities of their handsets in reaching help in emergency situations, thus minimizing the possibility of critical delays in response time. The annual TTY reports will be used to monitor the progress of TTY technology and thus compatibility. Consultations on the specific meaning assigned to pseudo-ANI are appropriate to ensure that all parties are working with the same information. Coordination between carriers and State and local entities to determine the appropriate PSAPs to receive and respond to E911 calls is necessary because of the difficulty in assigning PSAPs based on the location of the wireless caller. The deployment schedule that must be submitted by carriers seeking a waiver of Phase I or Phase II deployment schedule will be used by the Commission to guarantee that the rules adopted in this proceeding are enforced in as timely a manner as possible within technological constraints.

Federal Communications Commission.
Marlene H. Dortch,
Secretary.

[FR Doc. 03-2371 Filed 1-31-03; 8:45 am]

BILLING CODE 6712-01-P